ENVIRONMENTAL PROTECTION AGENCY

[AD-FRL-7238-1]

National Emission Standards for Hazardous Air Pollutants: Revision of Area Source Category List Under Section 112(c)(3) and 112(k)(3)(B)(ii) of the Clean Air Act

AGENCY: Environmental Protection Agency (EPA).

ACTION: Notice of revisions to the area source category list under the Integrated Urban Air Toxics Strategy.

SUMMARY: This notice adds 18 area source categories of hazardous air pollutants (HAP) to the list developed under the Integrated Urban Air Toxics Strategy (Strategy). Required under section 112(c)(3) and 112(k)(3)(B)(ii) of the Clean Air Act (CAA), the Strategy's area source category list constitutes an important part of EPA's agenda for regulating stationary sources of air toxics emissions. The revisions to the list of area sources have not been reflected in any previous notices and are being made without public comment on the Administrator's own motion. Such revisions are deemed by EPA to be without need for public comment based on the nature of the actions.

EFFECTIVE DATE: June 26, 2002.

ADDRESSES: Docket No. A-97-44 contains supporting information used in development of this notice. The docket is available for public inspection and copying between 8:00 a.m. and 5:30 p.m., Monday through Friday, excluding legal holidays. The docket is located in EPA's Air and Radiation Docket and Information Center (6102), Room M-1500, 401 M Street, SW, Washington, DC 20460, or by calling (202) 260-7548. A reasonable fee may be charged for copying docket materials.

FOR FURTHER INFORMATION CONTACT: Ms. Barbara B. Driscoll, Policy, Planning and Standards Group, Emission Standards Division (C439-04), EPA, Research Triangle Park, North Carolina 27711, facsimile number (919) 541-0942 telephone number (919) 541-1051, electronic mail (e-mail): driscoll.barbara@epa.gov.

SUPPLEMENTARY INFORMATION: Docket. The docket for this action is A-97-44. The docket is an organized file of all the information submitted to or otherwise relied upon by the Agency in the development of the revised list of area source categories. The principal purpose of the docket is to allow interested parties to identify and locate documents that serve as a record of the process engaged in by the Agency to publish today's revision to the initial list. The docket is available for public inspection at EPA's Air and Radiation Docket and Information Center, which is listed in the ADDRESSES section of this notice.

Worldwide Web (WWW). In addition to being available in the docket, an electronic copy of today's notice will also be available on the WWW through the Technology Transfer Network (TTN). Following signature, a copy of the notice will be posted on the TTN's policy and guidance page, http://www.epa.gov/ttn/oarpg. The TTN provides information and technology exchange in various areas of air pollution control. If more information regarding the TTN is needed, call the TTN HELP line at (919) 541-5384.

I. What Is the History of the Integrated Urban Air Toxics Strategy Area Source Category List?

The CAA includes two provisions, section 112(c)(3) and 112(k)(3)(B)(ii), that instruct EPA to identify and list area source categories representing at least 90 percent of the emissions of the 30 “listed” (or area source) HAP (see July 19, 1999, The Integrated Urban Air Toxics Strategy, 64 FR 38706), and that are, or will be, subject to standards under section 112(d) of the CAA. For this effort we used urban area source information from the 112(k) inventory which represents a baseline year of 1990. In the July 1999 Strategy, we identified 16 area source categories that had already been listed for regulation under the CAA, and 13 area source categories that were being listed under section 112(c)(3) for the first time. These 29 area source categories are:

• Cyclic Crude and Intermediate Production

• Flexible Polyurethane Foam Fabrication Operations

• Hospital Sterilizers

• Industrial Inorganic Chemical Manufacturing

• Industrial Organic Chemical Manufacturing

• Mercury Cell Chlor-Alkali Plants

• Gasoline Distribution Stage 1

• Municipal Landfills

• Oil and Natural Gas Production

• Paint Stripping Operations

• Plastic Materials and Resins Manufacturing

• Publicly Owned Treatment Works

• Synthetic Rubber Manufacturing

• Chromic Acid Anodizing

• Commercial Sterilization Facilities

• Other Solid Waste Incinerators (Human/Animal Cremation)

• Decorative Chromium Electroplating

• Dry Cleaning Facilities

• Halogenated Solvent Cleaners

• Hard Chromium Electroplating

• Hazardous Waste Combustors

• Industrial Boilers

• Institutional/Commercial Boilers

• Medical Waste Incinerators

• Municipal Waste Combustors

• Open Burning Scrap Tires

• Portland Cement

• Secondary Lead Smelting

• Stationary Internal Combustion Engines.

Each of the source categories that were listed for the first time (the first 13 area source categories on the list above) contributed at least 15 percent of the total area source urban emissions of at least one of the 30 area source HAP. We also took credit for the percentage of emission contribution from the 16 area source categories that had already been listed (the last 16 area source categories on the list above). Since then, we added Secondary Aluminum Production to our list of major and area source categories (66 FR 8220, January 30, 2001). The listing of all these categories, however, does not meet the requirement to list area sources representing 90 percent of the area source emissions of the 30 area source HAP. In the Strategy, we indicated that we would be adding additional area source categories as necessary to meet the 90 percent requirement and would complete our listing by 2003.

II. Why Is EPA Issuing This Notice?

Under provisions of section 112(c)(3) and 112(k)(3)(B)(ii), this notice announces the addition of 18 area source categories to those we listed in July 1999 (64 FR 38721) and, as modified in January 2001 (66 FR 8220). While this listing is again based on the 112(k) inventory which represents urban area information for 1990, current information will be used for any type of regulatory development. Each of the source categories contributes between 4 and 16 percent of the total area source emissions for at least one of the 30 area source HAP and makes progress toward meeting our requirement to address 90 percent of the emissions of each of the 30 area source HAP. The additional area source categories being listed pursuant to section 112(c)(3) and 112(k)(3)(B)(ii) are:

• Acrylic Fibers/Modacrylic Fibers Production

• Plating and Polishing

• Agriculture Chemicals & Pesticides Manufacturing

• Autobody Refinishing Paint Shops

• Cadmium Refining & Cadmium Oxide Production

• Flexible Polyurethane Foam Production

• Iron Foundries

• Lead and Acid Battery Manufacturing

• Miscellaneous Organic Chemical Manufacturing (MON)

• Pharmaceutical Production

• Polyvinyl Chloride & Copolymers Production

• Pressed and Blown Glass & Glassware Manufacturing

• Secondary Copper Smelting

• Secondary Nonferrous Metals

• Sewage Sludge Incineration

• Stainless and Nonstainless Steel Manufacturing Electric Arc Furnaces (EAF)

• Steel Foundries

• Wood Preserving.

III. Administrative Requirements

Today's notice is not a rule; it is essentially an information-sharing activity which does not impose regulatory requirements or costs. Therefore, the requirements of Executive Order 13045 (Protection of Children from Environmental Health Risks and Safety Risks), Executive Order 13175 (Consultation and Coordination with Indian Tribal Governments), Executive Order 13132 (Federalism), Executive Order 13211 (Actions Concerning Regulations that Significantly Affect Energy Supply, Distribution, or Use), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735, October 4, 1993), a regulatory action determined to be “significant” is subject to the Office of Management and Budget (OMB) review and the requirements of the Executive Order. The Executive Order defines “significant” regulatory action as one that is likely to lead to a rule that may either (1) have an annual effect on the economy of $100 million or more, or adversely affect a sector of the economy, productivity, competition, jobs, the environment, public health or safety, or State, local or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order. The OMB has determined that this action is not significant under the terms of Executive Order 12866.

Dated: June 17, 2002.
Jeffrey R. Holmstead,
Assistant Administrator for Air and Radiation.

[FR Doc. 02-16142 Filed 6-25-02; 8:45 am]

BILLING CODE 6560-50-U